DEPARTMENT OF HOMELAND SECURITY

Office of the Secretary

Privacy Act of 1974; Systems of Records

AGENCY: Department of Homeland Security.

ACTION: Notice of computer matching programs.

SUMMARY: In accordance with the Privacy Act of 1974, as amended by the Computer Matching and Privacy Protection Act of 1988, the Department of Homeland Security is giving notice of computer matching programs that its component agency, United States Citizenship and Immigration Services, will conduct with five state agencies.

DATES: Matching activities under the new agreements will be effective March 7, 2005, or 40 days after a report concerning the computer matching programs has been transmitted by the Department of Homeland Security to the Office of Management and Budget and transmitted to Congress with a copy of the agreements, whichever is later.

FOR FURTHER INFORMATION CONTACT: Nuala O'Connor Kelly, Chief Privacy Officer, Department of Homeland Security, Washington, DC 20528 by telephone (202) 772-9848 or facsimile (202) 772-5036.

SUPPLEMENTARY INFORMATION:

A. Background

The Privacy Act, as amended by the Computer Matching and Privacy Protection Act of 1988, regulates the use of computer matching by Federal agencies when records in a system of records are matched with other Federal, State, or local government records. The Privacy Act requires Federal agencies involved in computer matching programs to:

(1) Negotiate written agreements with the other agency or agencies participating in the matching programs;

(2) Obtain the approval of the matching agreement(s) by the Data Integrity Board of the participating Federal agencies;

(3) Publish notice of the computer matching program(s) in the Federal Register;

(4) Furnish detailed reports about the matching programs to Congress and to the Office of Management and Budget (OMB);

(5) Notify applicants and beneficiaries that their records are subject to matching; and

(6) Verify match findings before reducing, suspending, terminating, or denying an individual's benefits of payments.

The Department of Homeland Security (DHS) has taken action to ensure that these requirements are met by the matching agreements at issue in this notice.

B. Legal Authority

The legal authority for the relevant disclosures in these matching operations is contained in Section 21 of the Immigration Reform and Control Act (IRCA) of 1986 (Pub. L. 99-603), as amended by the Personal Responsibility and Work Opportunity Reconciliation Act (PRWPRA) (Pub. L. 104-193). This statute requires United States Citizenship and Immigration Services (USCIS) to establish a system for the verification of immigration status of alien applicants for, or recipients of, certain types of benefits, and to make this system available to state agencies which administer such benefits.

C. The Matching Agreements

The matching agreements at issue in this notice involve information obtained from USCIS, which is the source agency. The information will be used by the recipient agencies to confirm the immigration status of alien applicants for, or recipients of, Federal benefits assistance under the “Systematic Alien Verification for Entitlements” (SAVE) Program. Specifically, the matching activities will permit the following eligibility determinations:

(1) The New York Department of Labor, New Jersey Department of Labor and Workforce Development, Massachusetts Division of Employment and Training, and the Texas Workforce Commission will be able to determine eligibility status for unemployment compensation;

(2) The California Department of Social Services will be able to determine eligibility status for the Temporary Assistance for Needy Families (TANF) Program, and the Food Stamps Program;

(3) The California State Department of Health Services will be able to determine eligibility status for the Medicaid Program.

Employing user identification codes and passwords, authorized persons from the state agencies listed above may electronically access the database of the CIS system of records entitled “Verification Information System, Justice/INS 035,” last published in the Federal Register on October 17, 2002. This system of records is used to provide immigration status information to Federal, State, and local government agencies for immigrants and naturalized U.S. citizens applying for public benefits. By accessing the USCIS database, these state agencies may obtain an alien registration number for the potential applicant or beneficiary for public benefits. Where the alien registration number is located, the state agency will receive electronically from the USCIS database the following data upon which to determine eligibility: The alien registration number, last name, first name, date of birth, country of birth, social security number (if available), date of entry, immigration status data, and employment eligibility data. If the state agency determines that an alien is not entitled to public benefits, in accordance with 5 U.S.C. 552a(p), the state agency will provide the alien applicant with 30 days notice and an opportunity to contest any adverse finding before final action is taken against that alien because of ineligibility as established through the computer match.

DHS has approved agreements to permit these computer matching programs for an 18-month period. The matching program may be extended for an additional 12 months thereafter, if certain conditions are met. Matching activities under the new agreements will be effective 30 days after publication of this computer matching notice in the Federal Register, or 40 days after a report concerning the computer matching programs has been transmitted to the Office of Management and Budget (OMB) and transmitted to Congress with a copy of the agreements, whichever is later.

In accordance with 5 U.S.C 552a(o)(A) and (r), the required report has been provided to the Office of Management and Budget, and to the Congress together with a copy of the agreements.

Dated: January 30, 2005.
Nuala O'Connor Kelly,
Chief Privacy Officer.

[FR Doc. 05-2168 Filed 2-3-05; 8:45 am]

BILLING CODE 4410-10-P